ENVIRONMENTAL PROTECTION AGENCY

[EPA-HQ-OPP-2024-0463; FRL-12347-01-OCSPP]

Metamitron; Receipt of Applications for Emergency Exemptions, Solicitation of Public Comment

AGENCY: Environmental Protection Agency (EPA).

ACTION: Notice.

SUMMARY: EPA has received specific exemption requests from the Colorado, Idaho, Nebraska, Oregon, and Wyoming Departments of Agriculture to use the pesticide metamitron (CAS No. 41394-05-2) to treat up to 116,902 acres of sugar beets (22,468 in CO; 14,400 in ID; 47,025 in NE; 1,629 in OR; and 31,380 in WY), to control the invasive weed, Palmer amaranth. The applicants propose the use of a new chemical which has not been registered by EPA. EPA is soliciting public comment before making the decision whether or not to grant the exemption.

DATES: Comments must be received on or before November 12, 2024.

ADDRESSES: Submit your comments, identified by docket identification (ID) number EPA-HQ-OPP-2024-0463, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-2875; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets#tips.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. What action is the Agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The Colorado, Idaho, Nebraska, Oregon, and Wyoming Departments of Agriculture have requested the EPA Administrator to issue specific exemptions for the use of metamitron on sugar beets to control Palmer amaranth. Information in accordance with 40 CFR part 166 was submitted as part of the requests.

As part of this request, the applicants assert that emergency conditions exist due to insufficient means to control Palmer amaranth in sugar beets, and the use of metamitron will help avert significant economic losses.

The Applicants propose to make up to two applications of 64 fluid ounces of the unregistered product, Goltix 700 SC (containing 58.3% metamitron, equivalent to 5.84 lbs. of metamitron per gallon of product) on up to a total of 116,902 acres of sugar beets (22,468 in CO; 14,400 in ID; 47,025 in NE; 1,629 in OR; and 31,380 in WY), from April 1 to May 31, 2025. If a maximum of two applications are made to the maximum requested acreage, a potential of 116,902 gallons of product (equivalent to 682,708 pounds of metamitron) could be used.

This notice does not constitute decisions by EPA on the applications themselves. The regulations governing FIFRA section 18 require publication of a notice of receipt of an application for a specific exemption proposing use of a new chemical (i.e., an active ingredient) which has not been registered by EPA. This notice provides an opportunity for public comment on the applications.

The Agency will review and consider all comments received during the comment period in determining whether to issue the specific exemptions requested by the Colorado, Idaho, Nebraska, Oregon, and Wyoming Departments of Agriculture.

Authority: 7 U.S.C. 136 et seq.

Dated: October 21, 2024.
Charles Smith,
Director, Registration Division, Office of Pesticide Programs.

[FR Doc. 2024-24795 Filed 10-24-24; 8:45 am]

BILLING CODE 6560-50-P